DEPARTMENT OF HOUSING AND URBAN DEVELOPMENT

[Docket No. FR-4837-D-25]

Revocation and Delegation of Authority Under the Age Discrimination Act of 1975

AGENCY: Office of the Secretary, HUD.

ACTION: Notice of revocation and delegation of authority.

SUMMARY: Through this notice, the Secretary of HUD is delegating to the Assistant Secretary for Fair Housing and Equal Opportunity (FHEO) authority, with noted exceptions, to act with respect to the Age Discrimination Act of 1975. The Secretary revokes all prior delegations of this authority made by the Secretary.

EFFECTIVE DATE: July 7, 2003.

FOR FURTHER INFORMATION CONTACT: Milton Turner, Director, Compliance and Disability Rights Division, Office of Fair Housing and Equal Opportunity, Room 5240, Department of Housing and Urban Development, 451 Seventh Street, SW., Washington, DC 20410-0001, telephone: (202) 708-2333. (This is not a toll-free number.) Hearing- and speech-impaired individuals may access this number through TTY by calling the toll-free Federal Information Relay Service at 1-800-877-8339.

SUPPLEMENTARY INFORMATION: The Age Discrimination Act of 1975, 42 U.S.C. 6101-6107 (the Act), prohibits any person from being excluded from participation in, denied the benefits of, or subjected to discrimination under any program or activity receiving federal financial assistance. The Act does not apply to any age distinction established under authority of any law which provides benefits or establishes criteria for participation on the basis of age or in age-related terms, nor does it apply when an explicit age distinction is necessary to the normal operation of a program or to the achievement of the statutory objective of a program. On November 4, 1980 (45 FR 73454), HUD published a proposed rule to implement regulations for the Act in 24 CFR part 146, captioned “Nondiscrimination on the Basis of Age in HUD Programs or Activities Receiving Federal Financial Assistance.” On December 17, 1986 (51 FR 45264), HUD published the final rule implementing the Act with respect to HUD programs and activities. In the regulations, the standards and duties of the Secretary and HUD to prevent and correct incidents of age discrimination are enumerated.

Accordingly, the Secretary delegates authority to ensure compliance and enforcement with the Act as follows:

Section A. Authority Delegated

The Secretary of HUD delegates to the Assistant Secretary for FHEO authority to act with respect to the Age Discrimination Act of 1975 (42 U.S.C. 6101-6107) and its implementing regulations in 24 CFR part 146. The authority delegated in this notice does not include authority as provided in 24 CFR 146.39, 146.47(a), and 146.49.

Section B. Authority Revoked

The Secretary revokes all prior delegations of authority made by the Secretary with respect to the Age Discrimination Act of 1975 or its implementing regulations, or both.

Section C. Authority To Redelegate

The Assistant Secretary for FHEO may redelegate the authority delegated through this notice, except for the authority to issue regulations or to waive regulations, to the General Deputy Assistant Secretary for FHEO, to the Deputy Assistant Secretary for Enforcement and Programs, to the Director of the Office of Enforcement, and to the FHEO Hub Directors.

Authority: Section 7(d) of the Department of Housing and Urban Development Act, 42 U.S.C. 3535(d).

Dated: July 7, 2003.
Mel Martinez,
Secretary.

[FR Doc. 03-18363 Filed 7-18-03; 8:45 am]

BILLING CODE 4210-32-P